Proclamation 9584 of March 31, 2017

National Financial Capability Month, 2017

By the President of the United States of America

A Proclamation

The ability of Americans to plan, save, and invest is vital to their building wealth and pursuing the American Dream. One of my first actions as President was to issue an Executive Order entitled “Core Principles for Regulating the United States Financial System,” and its first core principle is that financial regulation should “empower Americans to make independent financial decisions and informed choices in the marketplace, save for retirement, and build individual wealth.”

Empowering Americans to make independent financial decisions and informed choices is critically important to our Nation's prosperity. Yet more than half of households today do not have 3 months of funds saved for emergency, and most families with children are not currently saving for college. In addition, a majority of working Americans worry about running out of money in retirement, and nearly a third of workers have no retirement savings at all.

We must address these challenges. Creating and implementing innovative financial education curriculums is critical. For example, the Department of Defense has made long-term financial security education opportunities available for our service members and their families. As a result, the men and women of the Armed Forces can plan a healthy financial future by seeking advice from personal financial managers and counselors.

My Administration will work with committed organizations in all sectors to improve financial education and share best practices so that all Americans—no matter their income, education, or background—have the capability to make sound financial decisions. Together, we will empower Americans to take advantage of the many opportunities they have to attain more financially secure and prosperous futures for themselves and their families.

NOW, THEREFORE, I, DONALD J. TRUMP, President of the United States of America, by virtue of the authority vested in me by the Constitution and the laws of the United States, do hereby proclaim April 2017 as National Financial Capability Month. I call upon all Americans to observe this month by engaging in activities that improve their understanding of important financial decisions.

IN WITNESS WHEREOF, I have hereunto set my hand this thirty-first day of March, in the year of our Lord two thousand seventeen, and of the Independence of the United States of America the two hundred and forty-first.

[FR Doc. 2017-06946

Filed 4-4-17; 11:15 am]

Billing code 3295-F7-P